DEPARTMENT OF TRANSPORTATION

Federal Railroad Administration

[Docket Number FRA-2015-0045]

Petition for Waiver of Compliance

In accordance with Part 211 of Title 49 of the Code of Federal Regulations (CFR), this provides the public notice that by a document dated May 4, 2015, Canadian Pacific Railway, Ltd. (CPR) has petitioned the Federal Railroad Administration (FRA) for a waiver of compliance from certain provisions of the Federal railroad safety regulations contained at 49 CFR part 232, Brake System Safety Standards for Freight and Other Non-Passenger Trains and Equipment. Specifically, CPR requests relief from 49 CFR 232.305(b)(2), which requires that a single car air brake test (SCABT) be performed when a car is on a shop or repair track, as defined in section 232.303(a), for any reason and has not received a SCABT within the previous 12-month period. FRA assigned the petition docket number FRA-2015-0045.

In its petition, CPR requests relief allowing for replacements of wheels condemnable by all applicable Association of American Railroads (AAR) Field Manual Rule 41 defects at Battle Creek Yard, St. Paul, MN, on a track designated for minor repairs using a drop table. CPR identifies these defects either by the Wheel Impact Load Detector (WILD) or visually by a qualified inspector designated under 49 CFR 215.11 and verified by that inspector before being repaired using the drop table on a track designated for minor repairs. CP will continue to perform SCABTs as required in sections 232.305(b)(1), (4), (5) and 232.305(c)-(e). CPR states that this request is consistent with 49 CFR 232.303(a)(2) which allows for an exception to the definition of “major repair” for wheels changed on an intermodal loading ramp. Similar to changing wheels on an intermodal loading ramp, wheel replacements using a drop table are completed in a short period of time and with no disruption to the other car components, including the brake system. The wheelset change-out takes an average of 0.337 person-hours. Besides the drop table, the repair requires only the use of hand tools and does not require additional specialized equipment.

A copy of the petition, as well as any written communications concerning the petition, is available for review online at www.regulations.gov and in person at the Department of Transportation's Docket Operations Facility, 1200 New Jersey Ave. SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by August 3, 2015 will be considered by FRA before final action is taken. Comments received after that date will be considered as far as practicable.

Anyone is able to search the electronic form of any written communications and comments received into any of our dockets by the name of the individual submitting the comment (or signing the document, if submitted on behalf of an association, business, labor union, etc.). In accordance with 5 U.S.C. 553(c), DOT solicits comments from the public to better inform its processes. DOT posts these comments, without edit, including any personal information the commenter provides, to www.regulations.gov, as described in the system of records notice (DOT/ALL-14 FDMS), which can be reviewed at www.dot.gov/privacy. See also http://www.regulations.gov/#!privacyNotice for the privacy notice of regulations.gov.

Issued in Washington, DC, on June 11, 2015.
Ron Hynes,
Director of Technical Oversight.

[FR Doc. 2015-14858 Filed 6-16-15; 8:45 am]

BILLING CODE 4910-06-P